DEPARTMENT OF EDUCATION

National Advisory Committee on Institutional Quality and Integrity (NACIQI)

AGENCY: U.S. Department of Education, Office of Postsecondary Education, National Advisory Committee on Institutional Quality and Integrity.

ACTION: Announcement of an open meeting of the National Advisory Committee on Institutional Quality and Integrity (NACIQI) and information pertaining to members of the public submitting third-party written and oral comments.

ADDRESSES: U.S. Department of Education, Office of Postsecondary Education, 1990 K Street NW., Room 8072, Washington, DC 20006.

NACIQI'S Statutory Authority and Function: The NACIQI is established under Section 114 of the HEA of 1965, as amended, 20 U.S.C. 1011c. The NACIQI advises the Secretary of Education about:

• The establishment and enforcement of the criteria for recognition of accrediting agencies or associations under Subpart 2, Part H, Title IV, of the HEA, as amended.

• The recognition of specific accrediting agencies or associations or a specific State approval agency.

• The preparation and publication of the list of nationally recognized accrediting agencies and associations

• The eligibility and certification process for institutions of higher education under Title IV, of the HEA, together with recommendations for improvement in such process.

• The relationship between (1) accreditation of institutions of higher education and the certification and eligibility of such institutions, and (2) State licensing responsibilities with respect to such institutions.

• Any other advisory function relating to accreditation and institutional eligibility that the Secretary may prescribe.

SUMMARY: This notice sets forth the agenda for the June 25-26, 2012, meeting of the National Advisory Committee on Institutional Quality and Integrity (NACIQI); and provides information to members of the public on submitting written comments and on requesting to make oral comments at the meeting. The notice of this meeting is required under Section 10(a)(2) of the Federal Advisory Committee Act (FACA) and Section 114(d)(1)(B) of the Higher Education Act (HEA) of 1965, as amended.

Meeting Date and Place: The NACIQI meeting will be held on June 25-26, 2012, from approximately 8:30 a.m. to approximately 5:30 p.m. at the Westin Alexandria, 400 Courthouse Square, Alexandria, VA 22314.

Meeting Agenda: Below is a list of agencies, including their current and requested scopes of recognition, scheduled for review during the June 25-26, 2012, meeting:

Petitions for Renewal of Recognition

Accrediting Agencies

1. The Association for Biblical Higher Education (ABHE), Commission on Accreditation (Current Scope: The accreditation and preaccreditation (“Candidate for Accreditation”) of Bible colleges and institutes in the United States offering undergraduate programs through both campus-based instruction and distance education.) Requested Scope: The preaccreditation and accreditation of institutions of biblical higher education in the United States offering undergraduate and graduate programs (including master's, first professional, and doctoral degrees) through campus-based instruction and distance education; and the accreditation of undergraduate and graduate programs of biblical and ministerial education offered in nationally or regionally accredited institutions whose overall mission and curricula are compatible with ABHE's purpose and membership standards, via campus-based and distance education.

2. Accreditation Commission for Midwifery Education (Current Scope: The accreditation and pre-accreditation of basic certificate, basic graduate nurse-midwifery, direct entry midwifery, and pre-certification nurse-midwifery education programs. The accreditation and pre-accreditation of freestanding institutions of midwifery education that may offer other related health care programs to include nurse practitioner programs, and including those institutions and programs that offer distance education.) Requested Scope: The accreditation and pre-accreditation of basic certificate, basic graduate nurse-midwifery, direct entry midwifery, and pre-certification nurse-midwifery education programs.

3. Accreditation Council for Pharmacy Education (Current Scope: The accreditation and preaccreditation of professional degree programs in pharmacy leading to the degree of Doctor of Pharmacy.)

4. Association for Clinical Pastoral Education, Inc., Accreditation Commission (Current Scope: The accreditation of both clinical pastoral education (CPE) centers and CPE and Supervisory CPE programs located within the United States and territories.)

5. American Dental Association, Commission on Dental Accreditation (Current Scope: The accreditation of predoctoral dental education programs (leading to the D.D.S. or D.M.D. degree), advanced dental education programs, and allied dental education programs that are fully operational or have attained “Initial Accreditation” status, including programs offered via distance education.)

6. American Occupational Therapy Association, Accreditation Council for Occupational Therapy Education (Current Scope: The accreditation of occupational therapy education programs offering the professional master's degree, combined baccalaureate/master's degree, and occupational therapy doctorate (OTD) degree; the accreditation of occupational therapy assistant programs offering the associate degree or a certificate; and the accreditation of these programs offered via distance education.)

7. Commission on Collegiate Nursing Education (Current Scope: The accreditation of nursing education programs in the United States, at the baccalaureate and graduate degree levels, including programs offering distance education.) Requested Scope: The accreditation of nursing education programs in the United States, at the baccalaureate, master's, and doctoral levels, including programs offering distance education.

8. Middle States Commission on Secondary Schools (Current Scope: The accreditation of institutions with postsecondary, non-degree granting career and technology programs in Delaware, Maryland, New Jersey, New York, Pennsylvania, the Commonwealth of Puerto Rico, the District of Columbia, and the U.S. Virgin Islands including those that offer all or part of their educational programs via distance education modalities.)

9. Distance Education and Training Council, Accrediting Commission (Current Scope: The accreditation of postsecondary institutions in the United States that offer degree programs primarily by the distance education method up to and including the professional doctoral degree, and are specifically certified by the agency as accredited for Title IV purposes; and for the accreditation of postsecondary institutions in the United States not participating in Title IV that offer programs primarily by the distance education method up through the professional doctoral degree.)

10. National League for Nursing Accrediting Commission (Current Scope: The accreditation in the United States of programs in practical nursing, and diploma, associate, baccalaureate and higher degree nurse education programs, including those offered via distance education.) Requested Scope: Accreditation of nursing education programs and schools, both postsecondary and higher degree, which offer either a certificate, diploma, or a recognized professional degree including clinical doctorate, master's, baccalaureate, associate, diploma, and practical nursing programs in the United States and its territories, including those offered via distance education.

11. Southern Association of Colleges and Schools (SACS), Commission on Colleges (COC) (Current Scope: The accreditation and preaccreditation (“Candidate for Accreditation”) of degree-granting institutions of higher education in Alabama, Florida, Georgia, Kentucky, Louisiana, Mississippi, North Carolina, South Carolina, Tennessee, Texas, and Virginia, including distance education programs offered at those institutions). Requested Scope: The accreditation and preaccreditation (“Candidate for Accreditation”) of degree-granting institutions of higher education in Alabama, Florida, Georgia, Kentucky, Louisiana, Mississippi, North Carolina, South Carolina, Tennessee, Texas, and Virginia, including the accreditation of programs offered via distance and correspondence education within these institutions. This recognition extends to the SACS-COC Board of Trustees and the Appeals Committee of the College Delegate Assembly on cases of initial candidacy or initial accreditation and for continued accreditation or candidacy.

State Approval Agency for Public Postsecondary Vocational Education

1. Puerto Rico State Agency for the Approval of Public Postsecondary Vocational, Technical Institutions and Programs (Current Scope: Recognition as the State agency for the approval of public postsecondary vocational technical education in the Commonwealth of Puerto Rico).

Compliance Reports

1. American Speech-Language-Hearing Association, Council on Academic Accreditation in Audiology and Speech-Language Pathology (Current Scope: The accreditation and preaccreditation (Accreditation Candidate) throughout the United States of education programs in audiology and speech-language pathology leading to the first professional or clinical degree at the master's or doctoral level, and the accreditation of these programs offered via distance education.

2. National Accrediting Commission of Career Arts and Sciences, Inc. (Current Scope: The accreditation throughout the United States of postsecondary schools and departments of cosmetology arts and sciences and massage therapy).

Request for Degree-Granting Authority

In accordance with the “Federal Policy Governing the Granting of Academic Degrees by Federal Agencies” (approved by a letter from the Director, Bureau of the Budget, to the Secretary, Health, Education, and Welfare, dated December 23, 1954), the Secretary is required to establish a review committee to advise the Secretary concerning any legislation that may be proposed that would authorize the granting of degrees by a Federal agency. After considering the criteria established by the policy, the review committee forwards its recommendation concerning a Federal agency's proposed degree-granting authority to the Secretary, who then forwards the committee's recommendation and the Secretary's recommendation to the Office of Management and Budget and the Department of Defense. The Secretary uses the NACIQI as the review committee required for this purpose. Accordingly, the Advisory Committee will review the following request:

1. Under the authority of Department of Defense Instruction DODI-3305.01, dated December 22, 2006, incorporating change 1 of February 9, 2011, the National Intelligence University, Bolling Air Force Base, requests degree-granting authority to award a Master's of Science and Technology Intelligence degree.

Submission of Written Comments: Written comments must be received by April 16, 2012, in the accreditationcommittees@ed.gov mailbox and include the subject line “Written Comments: re (agency name).” The email must include the name, title, affiliation, mailing address, email address, telephone and facsimile numbers and Web site (if any) of the person/group making the comment. Comments should be submitted as a Microsoft Word document or in a medium compatible with Microsoft Word (not a PDF file) that is attached to an electronic mail message (email) or provided in the body of an email message. Comments about an agency's compliance report must relate to the issues raised and the criteria for recognition cited in the Secretary's letter that requested the report. Comments about an agency's renewal of recognition must relate to its compliance with the Criteria for the Recognition of Accrediting Agencies or the Criteria and Procedures for Recognition of State Agencies for Approval of Public Postsecondary Vocational Education, as appropriate, which are available at http://www.ed.gov/admins/finaid/accred/index.html. Third parties having concerns about agencies regarding matters outside the scope of the petition should report those concerns to Department staff. Only material submitted by the deadline to the email address listed in this notice, and in accordance with these instructions, become part of the official record concerning agencies scheduled for review and are considered by the Department and the NACIQI in their deliberations. Please do not send material directly to the NACIQI members.

Submission of Requests To Make An Oral Comment: There are two methods the public may use to make a third-party oral comment of three to five minutes concerning one of the agencies scheduled for review on June 25-26, 2012. Oral comments about agencies seeking continued recognition must relate to the criteria for the recognition of accrediting agencies or the Criteria and Procedures for Recognition of State Agencies for Approval of Public Postsecondary Vocational Education, as appropriate, which are available at: http://www.ed.gov/admins/finaid/accred/index.html.

Method One: Submit a request by email to the accreditationcommittees@ed.gov mailbox. Please do not send material directly to NACIQI members. Requests must be received by April 16, 2012, and include the subject line “Oral Comment Request: re (agency name).” The email must include the name, title, affiliation, mailing address, email address, telephone and facsimile numbers and Web site (if any) of the person/group requesting to speak. All individuals or groups submitting an advance request in accordance with this notice will be afforded an opportunity to speak for a minimum of three minutes each. Each request must concern the recognition of a single agency or institution tentatively scheduled in this notice for review, be no more than one page (maximum), and must include:

1. The name, title, affiliation, mailing address, email address, telephone and facsimile numbers, and Web site (if any) of the person/group requesting to speak; and,

2. A brief summary of the principal points to be made during the oral presentation.

Method Two: Register at the meeting location on June 25 or June 26, 2012, to make an oral comment during the NACIQI's deliberations concerning a particular agency or institution scheduled for review that day. The requestor must provide his or her name, title, affiliation, mailing address, email address, telephone and facsimile numbers, and Web site (if any). A total of up to fifteen minutes during each agency review will be allotted for commenters who register on June 25 or June 26, 2012. Individuals or groups will be selected on a first-come, first-served basis. If selected, each commenter may speak from three to five minutes, depending on the number of individuals or groups who signed up the day of the meeting.

If a person or group requests to make comments in advance, they cannot also register for an oral presentation opportunity on June 25 or June 26, 2012. The oral comments made will become part of the official record and will be considered by the Department and NACIQI in their deliberations. Individuals and groups making oral presentations concerning scheduled agencies may not distribute written materials at the meeting.

Access to Records of the Meeting: The Department will post the official report of the meeting on the NACIQI Web site shortly after the meeting. Pursuant to the FACA, the public may also inspect the materials at 1990 K Street NW., Washington, DC, by emailing aslrecordsmanager@ed.gov or by calling (202) 219-7067 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

FOR FURTHER INFORMATION CONTACT: Carol Griffiths, Acting Executive Director, NACIQI, U.S. Department of Education, 1990 K Street NW., Room 8072, Washington, DC 20006-8129, telephone: (202) 219-7035, fax: (202) 219-7005, or email: Carol.Griffiths@ed.gov.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Delegation of Authority: The Secretary of Education has delegated authority to David Bergeron, Deputy Assistant Secretary for Policy, Planning, and Innovation to perform the functions and duties of the Assistant Secretary for Postsecondary Education.

David Bergeron,
Deputy Assistant Secretary for Policy, Planning, and Innovation, delegated the authority to perform the functions and duties of the Assistant Secretary for Postsecondary Education.

[FR Doc. 2012-7725 Filed 3-29-12; 8:45 am]

BILLING CODE P